OFFICE OF THE UNITED STATES TRADE REPRESENTATIVE

Fiscal Year 2012 Tariff-Rate Quota Allocations for Raw Cane Sugar, Refined and Specialty Sugar and Sugar-Containing Products

AGENCY: Office of the United States Trade Representative.

ACTION: Notice.

SUMMARY: The Office of the United States Trade Representative (USTR) is providing notice of country-by-country allocations of the Fiscal Year (FY) 2012 in-quota quantity of the tariff-rate quotas for imported raw cane sugar, refined and specialty sugar and sugar-containing products.

DATES: Effective Date: September 1, 2011.

ADDRESSES: Inquiries may be mailed or delivered to Julie Scott, Office of Agricultural Affairs, Office of the United States Trade Representative, 600 17th Street, NW., Washington, DC 20508.

FOR FURTHER INFORMATION CONTACT: Julie Scott, Office of Agricultural Affairs, telephone: 202-395-9582 or facsimile: 202-395-4579.

SUPPLEMENTARY INFORMATION: Pursuant to Additional U.S. Note 5 to chapter 17 of the Harmonized Tariff Schedule of the United States (HTS), the United States maintains tariff-rate quotas (TRQs) for imports of raw cane sugar and refined sugar. Pursuant to Additional U.S. Note 8 to Chapter 17 of the HTS, the United States maintains a TRQ for imports of sugar-containing products.

Section 404(d)(3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On August 1, 2011, the Secretary of Agriculture (Secretary) announced the sugar program provisions for fiscal year (FY) 2012. The Secretary announced an in-quota quantity of the TRQ for raw cane sugar for FY 2012 of 1,117,195 metric tons * raw value (MTRV), which is the minimum amount to which the United States is committed under the World Trade Organization (WTO) Uruguay Round Agreements. USTR is allocating this quantity (1,117,195 MTRV) to the following countries in the amounts specified below:

Country | FY 2012 Raw cane sugar allocations (MTRV)
Argentina | 46,154
Australia | 89,087
Barbados | 7,513
Belize | 11,807
Bolivia | 8,587
Brazil | 155,634
Colombia | 25,760
Congo | 7,258
Costa Rica | 16,100
Cote d'Ivoire | 7,258
Dominican Republic | 188,908
Ecuador | 11,807
El Salvador | 27,907
Fiji | 9,660
Gabon | 7,258
Guatemala | 51,520
Guyana | 12,880
Haiti | 7,258
Honduras | 10,733
India | 8,587
Jamaica | 11,807
Madagascar | 7,258
Malawi | 10,733
Mauritius | 12,880
Mozambique | 13,953
Nicaragua | 22,540
Panama | 31,127
Papua New Guinea | 7,258
Paraguay | 7,258
Peru | 44,007
Philippines | 144,901
South Africa | 24,687
St. Kitts & Nevis | 7,258
Swaziland | 17,174
Thailand | 15,027
Trinidad & Tobago | 7,513
Uruguay | 7,258
Zimbabwe | 12,880

These allocations are based on the countries' historical shipments to the United States and consultations with quota-holding countries. The allocations of the in-quota quantities of the raw cane sugar TRQ to countries that are net importers of sugar are conditioned on receipt of the appropriate verifications of origin, and certificates for quota eligibility must accompany imports from any country for which an allocation has been provided.

On August 1, 2011, the Secretary also announced the establishment of the in-quota quantity of the FY 2012 refined sugar TRQ at 112,718 MTRV for which the sucrose content, by weight in the dry state, must have a polarimeter reading of 99.5 degrees or more. This amount includes the minimum level to which the United States is committed under the WTO Uruguay Round Agreements (22,000 MTRV of which 1,656 MTRV is reserved for specialty sugar) and an additional 90,718 MTRV for specialty sugars. Based on consultations with quota-holding countries, USTR is allocating a total of 12,050 MTRV of refined sugar to Canada and 8,294 MTRV of refined sugar to be administered on a first-come, first-served basis.

Imports of all specialty sugar will be administered on a first-come, first-served basis in five tranches. The Secretary has announced that the total in-quota quantity of specialty sugar will be the 1,656 MTRV included in the WTO minimum plus an additional 90,718 MTRV. The first tranche of 1,656 MTRV will open October 12, 2011. All types of specialty sugars are eligible for entry under this tranche. The second tranche of 33,565 MTRV will open on October 26, 2011. The third, fourth, and fifth tranches of 19,051 MTRV each will open on January 11, 2012, April 11, 2012 and July 11, 2012, respectively. The second, third, fourth and fifth tranches will be reserved for organic sugar and other specialty sugars not currently produced commercially in the United States or reasonably available from domestic sources.

With respect to the in-quota quantity of 64,709 metric tons (MT) of the TRQ for imports of certain sugar-containing products maintained under Additional U.S. Note 8 to chapter 17 of the HTS, USTR is allocating 59,250 MT to Canada. The remainder, 5,459 MT, of the in-quota quantity is available for other countries on a first-come, first-served basis.

In response to increased tightness in the U.S. raw cane sugar market, USDA also announced that it will open its raw cane sugar TRQs on September 1, 2011, a month earlier than the usual entry date of October 1. This early entry date does not apply to TRQs for refined and specialty sugar and sugar-containing products.

* Conversion factor: 1 metric ton = 1.10231125 short tons.

Ronald Kirk,
United States Trade Representative.

[FR Doc. 2011-20480 Filed 8-11-11; 8:45 am]

BILLING CODE 3190-W1-P